DEPARTMENT OF ENERGY

Federal Energy Regulatory Commission

Combined Notice of Filings #1

March 16, 2006.

Take notice that the Commission received the following electric rate filings.

Docket Numbers: ER02-2330-041.

Applicants: ISO New England Inc.

Description: ISO New England, Inc. submits its Fourteenth Quarterly Status Report, pursuant to FERC's September 20, 2002 Order.

Filed Date: March 13, 2006.

Accession Number: 20060315-0211.

Comment Date: 5 p.m. eastern time on Monday, April 3, 2006.

Docket Numbers: ER04-805-002; ER02-237-006.

Applicants: Wabash Valley Power Association, Inc.; J. Aron & Company.

Description: Wabash Valley Power Association, Inc. and J. Aron & Co. submit a notice of non-material change in status, in compliance with the reporting requirements adopted in FERC's Order 652.

Filed Date: March 10, 2006.

Accession Number: 20060315-0216.

Comment Date: 5 p.m. eastern time on Friday, March 31, 2006.

Docket Numbers: ER04-805-003.

Applicants: Wabash Valley Power Association, Inc.

Description: Wabash Valley Power Association, Inc. submits revisions to Original Sheet 1A et al to FERC Electric Tariff, Original Volume 2 pursuant to Order 652.

Filed Date: March 13, 2006.

Accession Number: 20060315-0212.

Comment Date: 5 p.m. eastern time on Monday, April 3, 2006.

Docket Numbers: ER04-961-006.

Applicants: Midwest Independent Transmission System Operator, Inc.

Description: Midwest Independent Transmission System Operator, Inc. submits proposed revisions to Schedule 2 of its Open Access Transmission & Energy Markets Tariff, FERC Electric Tariff, Third Revised Volume 1.

Filed Date: March 9, 2006.

Accession Number: 20060315-0209.

Comment Date: 5 p.m. eastern time on Thursday, March 30, 2006.

Docket Numbers: ER05-386-003.

Applicants: Interstate Power Company; Midwest Independent System Operator, Inc.

Description: Midwest Independent Transmission System Operator, Inc. and Interstate Power Company jointly submit a Revised and Restated Agreement for Integrated Transmission Area with Central Iowa Power Coop, et al, pursuant to FERC's December 20, 2005 Order.

Filed Date: March 10, 2006.

Accession Number: 20060315-0213.

Comment Date: 5 p.m. eastern time on Friday, March 31, 2006.

Docket Numbers: ER06-71-002.

Applicants: Southwestern Public Service Company.

Description: Southwestern Public Service Co. submits modifications to SPS Rate Schedule 118.

Filed Date: March 9, 2006.

Accession Number: 20060315-0208.

Comment Date: 5 p.m. eastern time on Thursday, March 30, 2006.

Docket Numbers: ER06-319-002.

Applicants: PJM Interconnection, L.L.C.

Description: PJM Interconnection, LLC submits a compliance filing pursuant to FERC's February 9, 2006 Order.

Filed Date: March 13, 2006.

Accession Number: 20060315-0210.

Comment Date: 5 p.m. eastern time on Monday, April 3, 2006.

Docket Numbers: ER06-714-000.

Applicants: Midwest Independent Transmission System Operator, Inc.

Description: Midwest Independent Transmission System Operator, Inc. submits a Large Generator Interconnection Agreement with FirstEnergy Nuclear Operating Co, et al.

Filed Date: March 10, 2006.

Accession Number: 20060315-0010.

Comment Date: 5 p.m. eastern time on Friday, March 31, 2006.

Docket Numbers: ER06-716-000.

Applicants: Midwest Independent Transmission System Operator, Inc.

Description: Midwest Independent Transmission System Operator, Inc.'s unexecuted Second Revised and Restated Generator Interconnection and Operating Agreement btw FirstEnergy Nuclear Operating Co. & American Transmission Systems, Inc.

Filed Date: March 10, 2006.

Accession Number: 20060315-0009.

Comment Date: 5 p.m. eastern time on Friday, March 31, 2006.

Docket Numbers: ER06-717-000.

Applicants: Southern California Edison Company.

Description: Southern California Edison Co. submits revised rates for existing transmission contracts.

Filed Date: March 10, 2006.

Accession Number: 20060315-0220.

Comment Date: 5 p.m. eastern time on Friday, March 31, 2006.

Docket Numbers: ER06-719-000.

Applicants: Wabash Valley Power Association, Inc.

Description: Cinergy Services Inc, on behalf of the Cincinnati Gas & Electric Co. et al submits Cancellation Agreement to their Interconnection Agreement, effective December 31, 2005.

Filed Date: March 13, 2006.

Accession Number: 20060315-0004.

Comment Date: 5 p.m. eastern time on Monday, April 3, 2006.

Docket Numbers: ER06-720-000.

Applicants: Twelvepole Creek, LLC.

Description: Twelvepole Creek LLC submits a notice canceling its FERC Electric Rate Schedule 1.

Filed Date: March 13, 2006.

Accession Number: 20060315-0005.

Comment Date: 5 p.m. eastern time on Monday, April 3, 2006.

Docket Numbers: ER06-721-000.

Applicants: American Electric Power Service Corporation.

Description: The American Electric Power Service Corp agent for Kentucky Power Co. et al submits an interconnection agreement with Louisville Gas & Electric Co. et al.

Filed Date: March 13, 2006.

Accession Number: 20060315-0006.

Comment Date: 5 p.m. eastern time on Monday, April 3, 2006.

Docket Numbers: ER06-722-000.

Applicants: Consumers Energy Company.

Description: Consumers Energy Co. submits its Notice of Cancellation of its Facilities Agreement with Alpena Power Generation, LLC.

Filed Date: March 13, 2006.

Accession Number: 20060315-0007.

Comment Date: 5 p.m. eastern time on Monday, April 3, 2006.

Docket Numbers: ER06-723-000.

Applicants: California Independent System Operator Corporation.

Description: California Independent System Operator Corp submits an amendment to the ISO Tariff, to establish the Interim Reliability Requirements Program.

Filed Date: March 13, 2006.

Accession Number: 20060315-0011.

Comment Date: 5 p.m. eastern time on Monday, April 3, 2006.

Docket Numbers: ER06-724-000.

Applicants: ISO New England Inc.; New England Power Pool Participants Committee.

Description: ISO New England Inc. and New England Power Pool Participants Committee jointly submit several proposed changes to the ISO New England Information Policy.

Filed Date: March 13, 2006.

Accession Number: 20060315-0002.

Comment Date: 5 p.m. eastern time on Monday, April 3, 2006.

Docket Numbers: ER06-725-000.

Applicants: Commonwealth Edison Company.

Description: Commonwealth Edison Co submits two notices of cancellation, Service Agreement 28 and Service Agreement 24, to be canceled effective March 15, 2006 etc.

Filed Date: March 13, 2006.

Accession Number: 20060315-0001.

Comment Date: 5 p.m. eastern time on Monday, April 3, 2006.

Docket Numbers: ER96-719-009; ER99-2156-007.

Applicants: MidAmerican Energy Company; Cordova Energy Company LLC.

Description: MidAmerican Energy Co. & Cordova Energy C LLC submit a Notice of Change in Status re the change in ownership of their indirect parent, MidAmerican Energy Holdings Co.

Filed Date: March 10, 2006.

Accession Number: 20060315-0215.

Comment Date: 5 p.m. eastern time on Friday, March 31, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-4231 Filed 3-23-06; 8:45 am]

BILLING CODE 6717-01-P